DEPARTMENT OF THE INTERIOR

National Park Service

Notice of Inventory Completion for Native American Human Remains and Associated Funerary Objects in the Possession of the Williamson Museum, Northwestern State University of Louisiana, Natchitoches, LA, and in the Control of the Louisiana Division of Archaeology, Baton Rouge, LA

AGENCY: National Park Service, Interior.

ACTION: Notice.

Notice is hereby given in accordance with provisions of the Native American Graves Protection and Repatriation Act (NAGPRA), 43 CFR 10.9, of the completion of an inventory of human remains and associated funerary objects in the possession of the Williamson Museum, Northwestern State University of Louisiana, Natchitoches, LA, and in the control of the Louisiana Division of Archaeology, Baton Rouge, LA.

This notice is published as part of the National Park Service's administrative responsibilities under NAGPRA, 43 CFR 10.2(c). The determinations within this notice are the sole responsibility of the museum, institution, or Federal agency that has control of these Native American human remains and associated funerary objects. The National Park Service is not responsible for the determinations within this notice.

A detailed assessment of the human remains was made by the Williamson Museum, Northwestern State University of Louisiana, and Louisiana Division of Archaeology professional staff in consultation with representatives of the Caddo Indian Tribe of Oklahoma.

In the 1960s, human remains representing one individual were excavated from the Mineral Springs site (3HO1), Howard County, AR, by Dr. Clarence H. Webb, who donated the remains to the Louisiana Division of Archaeology. The remains are curated at the Williamson Museum, Northwestern State University of Louisiana. No known individual was identified. No associated funerary objects are present.

The Mineral Springs site was a precontact settlement, dating to approximately A.D. 1300-1500, with some evidence for an earlier preceramic occupation of unknown age. Archeological research was conducted at the site between the 1920s and the 1960s and several publications have documented the collections, features, and burials. The information available on the human remains from Mineral Springs is insufficient to determine their exact provenience or age. The archeological evidence from the site, especially the ceramics, architecture, and mortuary patterns, demonstrates that this site was occupied by people of the ancient Caddoan culture found in the Red River Basin.

In the 1950s, human remains representing one individual were recovered from the Marston site (16RR1), Red River Parish, LA, by Dr. Clarence H. Webb, who donated the remains to the Louisiana Division of Archaeology. The remains are curated at the Williamson Museum, Northwestern State University of Louisiana. No known individual was identified. No associated funerary objects are present.

The remains were taken from an eroded area near the levee at the site. The Marston site is a Caddo I-II period site and the artifacts collected at the site suggest that the site dates to A.D. 1200-1500.

In 1941, human remains representing three individuals were recovered from the Lawton Gin site, Natchitoches Parish, LA, by Dr. Clarence H. Webb, who donated the remains to the Louisiana Division of Archaeology. The remains are curated at the Williamson Museum, Northwestern State University of Louisiana. No known individuals were identified. The 52 associated funerary objects are 47 glass beads, 3 Natchitoches Engraved bowls, 1 Keno Trailed bottle, and 1 Emory Incised-Punctated bowl.

The remains were taken from a pit for a cotton weighing scales at the site. The cultural context of the site is described below.

In the 1940s, human remains representing four individuals were recovered from the Southern Oil Mill and Compress site, Natchitoches Parish, LA, by Dr. Clarence H. Webb, Michael Beckman, and Robert Scott, who donated the remains to the Louisiana Division of Archaeology. The remains are curated at the Williamson Museum, Northwestern State University of Louisiana. No known individuals were identified. The 45 associated funerary objects are 40 glass beads, 1 Emory Punctated-Incised bowl, 1 plain (shell-tempered) bowl, 1 brass bracelet, 1 fragmentary iron and bead bracelet, and 1 iron bracelet.

These remains were taken from excavations for road construction. The Lawton Gin site and the Southern Oil Mill and Compress site are postcontact sites, dating to the 1700s. During consultations, the representatives of the Caddo Tribe identified these remains as Caddo and agreed that these sites represent the historic Natchitoches tribe. The archeological evidence from these and contemporaneous sites was used to define the Lawton Phase (A.D. 1714-1800), which has been culturally identified to the Natchitoches confederacy of the Caddo. Lawton Phase sites cluster around Natchitoches, LA, which was established as a French trading post in 1714. While other tribes visited the area to trade, the Native American settlements were Caddoan. The archeological evidence for the cultural continuity between Lawton Phase sites and the Caddo Tribe consists primarily of ceramic styles, vessel forms, and geographical locations. The historical record includes documentary and cartographic materials describing the Natchitoches confederacy of the Caddo Tribe, which lived along the Red River near Natchitoches, LA.

In the 1930s or 1940s, human remains representing one individual were excavated from the Belcher Mound site (16CD13), Caddo Parish, LA, by Dr. Clarence H. Webb, who donated the remains to the Louisiana Division of Archaeology. The remains are curated at the Williamson Museum, Northwestern State University of Louisiana. No known individual was identified. No associated funerary objects are present.

Between 1936-1954, 312 associated funerary objects were excavated from Belcher Mound site by Dr. Clarence H. Webb, who donated the human remains associated with these objects to the Louisiana State University Museum of Natural Science. The associated funerary objects were donated to the Louisiana Division of Archaeology and are curated at the Williamson Museum, Northwestern State University of Louisiana. The 312 associated funerary objects are 1 golden eagle skeleton, 2 animal tooth pendants, 61 mussel shell pendants, 3 shell pendants, 9 shell zoomorphic pendants, 1 eroded concretion, 3 antler projectile points, 5 Bassett points, 1 oval hammerstone, 1 deer ulna awl, 1 decorated bone disk, 1 bone earspool, 2 bone hair pins, 1 bone labret/ear ornament, 51 conch columnella beads, 6 small conch shell beads, 25 shell beads, 3 pearl beads, 27 shell inlays, 2 engraved conch cups, 1 perforated conch cup, 15 mussel shell tools, 1 shell hoe, 1 effigy vessel, 1 plain jar, 1 pottery vessel, 24 Belcher Engraved vessels (7 bottles and 17 bowls), 2 Belcher Engraved (?) bottles, 16 Hodges Engraved vessels (1 bottle, 1 compound vessel, 12 bowls, and 2 jars), 1 Sanders Redware bottle, 1 Wilder Engraved bottle, 6 Avery Engraved bowls, 1 Avery Engraved (redware) bowl, 3 Glassell Engraved bowls, 3 Taylor Engraved vessels (2 bowls and 1 bottle), 1 Crockett Curvilinear Incised jar, 5 Foster Trailed vessels (including 4 jars), 1 Hickory Engraved bottle, 1 Karnak Brushed-Incised cup, 1 Karnak Brushed jar, 1 Karnak vessel, 9 Belcher Ridged vessels (including 2 jars and 5 urns), 7 Cowhide Stamped vessels (including 3 jars and 2 urns), 2 Keno Trailed vessels (including 1 vase), and 1 Smithport Plain vessel.

The golden eagle skeleton was found with burial 18 at the site, and was transferred to the Williamson Museum in 1981. During consultations, the Caddo stated that they consider the Belcher Mound site a sacred site and, consequently, consider these artifacts sacred. The golden eagle remains are considered especially sacred, and the Caddo will treat them as though they are human remains. The eagle skeleton has not been found to be either human remains or sacred under the definitions provided in NAGPRA, 43 CFR 10.2(d).

Officials of the Williamson Museum, Northwestern State University of Louisiana, and the Louisiana Division of Archaeology contacted the U.S. Department of the Interior, U.S. Fish and Wildlife Service regarding applicability of the Migratory Bird Treaty Act, the Bald Eagle Act, the Golden Eagle Act, and the Endangered Species Act. The U.S. Fish and Wildlife Service has determined that the Louisiana Division of Archaeology may transfer the golden eagle remains to the culturally affiliated Native American tribe.

The Belcher Mound site (A.D. 900-1700) is one of the best-documented Caddo sites, and its material culture sequence has defined the Belcher Phase (A.D. 1500-1700). The dating of the site and its contemporaries has been documented by radiocarbon dates, thermoluminescence dates, and ceramic seriation. The archeological evidence for the cultural continuity of Belcher Phase sites and the Caddo Tribe includes ceramic styles, vessel forms, geographical locations, architecture, and mortuary practices.

In 1935, 16 associated funerary objects were excavated at Smithport Landing, DeSoto Parish, LA, by Dr. Clarence H. Webb, who donated the human remains associated with these objects to the Louisiana State University Museum of Natural Science. The 16 associated funerary objects are 1 sandstone bead, 2 Hickory Engraved bottles, 1 bone bead, 4 plain vessels (1 bottle, 1 cup, and 2 bowls), 1 pottery bowl, 1 Punctated Rim bowl, 2 Smithport Plain bowls, 1 Wilkinson/Kiam bowl, 1 toy pottery bottle, 1 engraved bottle, and 1 Wilkinson Punctated toy vessel.

The Smithport Landing site is a Caddo I period site. Artifact styles suggest an Alto-Gahagan Phase (A.D. 900-1200) affiliation for this site.

In 1939-41, 383 associated funerary objects were excavated at Gahagan Mound, Red River Parish, LA, by Dr. Clarence H. Webb, who donated the human remains associated with these objects to the Louisiana State University Museum of Natural Science, and have been reported in a separate notice. The 383 associated funerary objects are 1 Hickory Engraved bottle, 1 bottle, 1 ceramic pipe stem fragment, 1 sandstone frog effigy pipe, 58 Alba points, 9 large Alba points, 13 Alba and Harrell points, 3 Hayes points, 3 Bayougoula points, 1 Gahagan biface, 5 Gahagan biface fragments, 23 Gahagan blade fragments, 8 points, 8 tan chert points, 1 quartz crystal mass/flakes, 10 antler arrow points/awls, 1 conjoined copper tubes (panpipes), 3 copper-covered wood claw effigies, 1 copper hand effigy, 1 copper-covered bone earspool, 3 copper-covered ear ornaments, 1 copper ear ornament, 1 copper-covered wooden bead, 16 copper sheets or rolls, 1 decorated strip of copper, 3 bone earplugs, 1 bone ear ornament, 1 ear ornament, 3 cog wheel shell ornaments, 1 shell ornament fragment, 10 flat bone pins, 1 cruciform flat pin, 2 bone pins, 17 bone pin fragments, 10 conch columnella beads, 129 marginella shell beads, 3 small sandstone hones, 2 white Catahoula sandstone hones, 1 ferruginous sandstone celt, 1 greenstone celt, 15 hammerstones, 1 hematite mano, 1 hematite plummet, 1 hematite slab, 4 galena masses, 1 beaver incisor, and 1 beaver tooth.

The Gahagan site is one of the earliest sites to be identified as part of the long Caddoan cultural sequence in northwestern Louisiana. It is the type site for the Caddo I Alto-Gahagan Phase, which dates to A.D. 900-1200.

At an unknown date, human remains representing a minimum of one individual were recovered from unknown location(s) in Caddo Parish, LA, by Dr. Clarence H. Webb, who donated the remains to the Louisiana Division of Archaeology. The fragmentary condition of the remains and the lack of documentation make it impossible to determine the number of individuals. The remains are curated at the Williamson Museum, Northwestern State University of Louisiana. No known individual was identified. No associated funerary objects are present.

Based on the above-mentioned information, officials of the Williamson Museum, Northwestern State University of Louisiana, and the Louisiana Division of Archaeology have determined that, pursuant to 43 CFR 10.2 (d)(1), the human remains listed above represent the physical remains of a minimum of 11 individuals of Native American ancestry. Officials of the Williamson Museum, Northwestern State University of Louisiana, and the Louisiana Division of Archaeology also have determined that, pursuant to 43 CFR 10.2(d)(2), the 808 objects listed above are reasonably believed to have been placed with or near individual human remains at the time of death or later as part of the death rite or ceremony. Lastly, officials of the Williamson Museum, Northwestern State University of Louisiana, and the Louisiana Division of Archaeology have determined that, pursuant to 43 CFR 10.2(e), there is a relationship of shared group identity that can be reasonably traced between these Native American human remains and associated funerary objects and the Caddo Indian Tribe of Oklahoma.

This notice has been sent to officials of the Caddo Indian Tribe of Oklahoma. Representatives of any other Indian tribe that believes itself to be culturally affiliated with these human remains and associated funerary objects should contact Dr. Pete Gregory, Director, Williamson Museum, Northwestern State University of Louisiana, Natchitoches, LA 71497, telephone (318) 357-8170, or Dr. Tom Eubanks, Louisiana Division of Archaeology, P.O. Box 44247, Baton Rouge, LA 70804, telephone (504) 342-8170, before November 5, 2001. Repatriation of the human remains and associated funerary objects to the Caddo Indian Tribe of Oklahoma may begin after that date if no additional claimants come forward.

Dated: June 19, 2001.
John Robbins,
Assistant Director, Cultural Resources Stewardship and Partnerships.

[FR Doc. 01-24930 Filed 10-3-01; 8:45 am]

BILLING CODE 4310-70-F